DEPARTMENT OF LABOR

Employment and Training Administration

[TA-W-38, 283, TA-W-38, 283A]

Fernbrook and Co. Plant #2 Palmerton, PA, and Fernbrook and Co. Plant #1 Palmerton, PA; Amended Certification Regarding Eligibility To Apply for Worker Adjustment Assistance

In accordance with section 223 of the Trade Act of 1974 (19 U.S.C. 2273) the Department of Labor issued a Certification of Eligibility to Apply for Worker Adjustment Assistance on January 31, 2001, applicable to workers of Fernbrook #2. Palmerton, Pennsylvania. The notice was published in the Federal Register on March 2, 2001 (66 FR 13086).

At the request of the petitioners, the Department reviewed the certification for workers of the subject firm. The workers were engaged in the production of ladies' pants.

New information shows that worker separations occurred at Plant #1 of Fernbrook and Co., Palmerton, Pennsylvania. The workers are engaged in employment related to the production of pants and shorts.

Accordingly, the Department is amending the certification to cover workers of Fernbrook and Co., Plant #1, Palmerton, Pennsylvania.

The intent of the Department's certification is to include all workers of Fernbrook and Co. adversely affected by increased imports.

The amended notice applicable to TA-W-38, 283 is hereby issued as follows:

All workers of Fernbrook and Co., Plant #2, Palmerton, Pennsylvania (TA-W-38, 283) and Plant #1, Palmerton, Pennsylvania (TA-W-38, 283A) who became totally or partially separated from employment on or after October 23, 1999, through January 31, 2003, are eligible to apply for adjustment assistance under section 223 of the Trade Act of 1974.

Signed at Washington D.C. this 14th day of August, 2001.
Linda G. Poole,
Certifying Officer, Division of Trade Adjustment Assistance.

[FR Doc. 01-21839 Filed 8-28-01; 8:45 am]

BILLING CODE 4510-30-M